DEPARTMENT OF ENERGY

Federal Energy Regulatory Commission

[Docket No. ER04-1018-001, et al.]

American Electric Power Service Corporation, et al.; Electric Rate and Corporate Filings

September 21, 2004.

The following filings have been made with the Commission. The filings are listed in ascending order within each docket classification.

1. American Electric Power Service Corporation

[Docket No. ER04-1018-001]

Take notice that on September 14, 2004, American Electric Power Service Corporation (AEPSC) on behalf of Ohio Power Company (OPC) and Columbus Southern Power Company (CSP) has submitted a compliance filing pursuant to the Commission's Letter Order issued September 10, 2004, in Docket No. ER04-1018-000.

AEPSC states that a copy of the filing was served upon the Parties and the state utility regulatory commission of Ohio. Comment Date: 5 p.m. eastern time on October 5, 2004.

2. New York State Electric & Gas Corporation

[Docket No. ER04-1061-001]

Take notice that on September 15, 2004, New York State Electric & Gas Corporation (NYSEG) submitted for filing a Substitute Original Service Agreement No. 335 under the New York Independent System Operator, Inc. FERC Electric Tariff Original Vol. No. 1 that sets forth the terms and conditions governing the interconnection between Windfarm Prattsburgh, LLC's (WFPB) generating facility in Steuben and Yates Counties, New York and NYSEG's transmission system.

NYSEG states that copies of the filing were served upon WFPB, the New York State Public Service Commission, and the New York Independent System Operator, Inc.

Comment Date: 5 p.m. eastern time on October 6, 2004.

3. New England Power Pool and ISO New England Inc.

[Docket No. ER04-1219-000]

Take notice that on September 14, 2004, the New England Power Pool (NEPOOL) Participants Committee and ISO New England Inc. (ISO-NE) jointly submitted a filing pursuant to section 205 of the Federal Power Act requesting acceptance of Amendment No. 5 (Amendment) to the Interim Independent System Operator Agreement (ISO Agreement) dated July 1, 1997, between ISO-NE and the NEPOOL Participants. NEPOOL Participants Committee and ISO state that the Amendment extends the term of the ISO Agreement to no later than April 1, 2005, in accordance with certain terms of the Settlement Agreement Resolving Specified Issues (the Settlement Agreement) filed September 14, 2004, by NEPOOL, ISO-NE and the New England transmission owners which are parties thereto in Docket Nos. RT04-2-004, ER04-116-004, and EL01-39-004. NEPOOL and ISO-NE request an effective date of November 1, 2004.

The NEPOOL Participants Committee and ISO-NE state that copies of these materials were sent to the NEPOOL Participants and the New England state governors and regulatory commissions.

Comment Date: 5 p.m. eastern time on October 5, 2004.

4. Caprock Wind LLC

[Docket No. ER04-1220-000]

Take notice that on September 14, 2004, Caprock Wind LLC (Caprock) submitted for filing with the Commission an application requesting that the Commission accept its Market-Based Tariff for filing grant it the authority to sell energy in wholesale transactions at negotiated, market-based rates. Caprock request an effective date of November 1, 2004.

Comment Date: 5 pm Eastern Time on October 5, 2004.

4. Mankato Energy Center, LLC

[Docket No. ER04-1221-000]

Take notice that on September 14, 2004, Mankato Energy Center, LLC (Makato) tendered for filing, under section 205 of the Federal Power Act, a request for authorization to make wholesale sales of electric energy, capacity, replacement reserves, and ancillary services at market-based rates, to reassign transmission capacity, and to resell firm transmission rights. Monkato states that it will be engaged in the development, construction, ownership, and operation of a nominal 730 megawatt gas-fired combined cycle electric generating facility to be located in Mankato, Blue Earth County, Minnesota. Applicant requests an effective date of February 1, 2006.

Comment Date: 5 p.m. eastern time on October 5, 2004.

6. DB Energy Trading LLC, a Delaware Limited Liability Company DB Energy Trading LLC, a Cayman Islands Limited Liability Company

[Docket No. ER04-1222-000]

Take notice that on September 14, 2004, DB Energy Trading LLC, a Delaware limited liability company (Applicant), tendered for filing its application for market-based rate authorization to sell energy and capacity at market-based rates, reassign transmission capacity and resell firm transmission rights and requesting certain waivers and blanket approvals. DB Energy Trading LLC, a Cayman Islands limited liability company (DB Energy (Cayman)), submitted, a Notice of Cancellation of DB Energy (Cayman's) Electric Rate Schedule FERC No. 1.

Comment Date: 5 p.m. eastern time on October 5, 2004.

7. Deseret Generation & Transmission Co-operative, Inc.

[Docket No. ER04-1224-000]

Take notice that on September 15, 2004 Deseret Generation & Transmission Co-operative, Inc. (Deseret) tendered for filing an amendment to First Revised Service Agreement No. 6 under Deseret's FERC Electric Tariff, Original Volume 1. Deseret states that the amendment includes an Agreement for Large Industrial Incentive Rate between Deseret and one of its members, Mt. Wheeler Power, Inc. Deseret requests an effective date of September 1, 2004.

Deseret states that copies of this filing have been served upon Deseret's member cooperatives.

Comment Date: 5 p.m. eastern time on October 6, 2004.

8. NEGT Energy Trading—Power, L.P.

[Docket No. ER04-1225-000]

Take notice that on September 15, 2004, NEGT Energy Trading—Power, L.P. (Energy Trading) submitted a Notice of Cancellation of Rate Schedule FERC No. 1, originally accepted for filing and made effective December 13, 1995, in Docket No. ER95-1625-000, and redesignated as PG&E Energy Trading—Power, L.P., rate schedule and supplements, made effective January 1, 1998, in Docket No. ER98-1370-000.

Energy Trading states that the Notice of the proposed cancellation has not been served on any party because NEGT Energy Trading—Power, L.P. is not currently engaged in any sales of electric power or entered into any power or related contracts with any purchasers.

Comment Date: 5 p.m. eastern time on October 6, 2004.

9. PJM Interconnection, L.L.C.

[Docket No. ER04-1226-000]

Take notice that on September 15, 2004, PJM Interconnection, L.L.C. (PJM), submitted for filing an executed interconnection service agreement (ISA) among PJM, PPL Montour, L.L.C., and PPL Electric Utilities Corporation, and a notice of cancellation of an interconnection service agreement that has been superseded. PJM requests an effective date of August 16, 2004.

PJM states that copies of this filing were served upon the parties to the agreement and the state regulatory commissions within the PJM region.

Comment Date: 5 p.m. eastern time on October 6, 2004.

10. PJM Interconnection, L.L.C.

[Docket No. ER04-1227-000]

Take notice that on September 15, 2004, PJM Interconnection, L.L.C. (PJM), submitted for filing an executed interconnection service agreement (ISA) among PJM, PPL Holtwood, L.L.C., and PPL Electric Utilities Corporation, and a notice of cancellation of an interim interconnection service agreement that has been superseded. PJM requests an effective date of August 16, 2004.

PJM states that copies of this filing were served upon the parties to the agreement and the state regulatory commissions within the PJM region.

Comment Date: 5 p.m. eastern time on October 6, 2004.

11. California Independent System Operator Corporation

[Docket No. ER04-1228-000]

Take notice that, on September 15, 2004, the California Independent System Operator Corporation (ISO) submitted an informational filing as to the ISO's revised transmission Access Charge rates for the period of August 13, 2003, through December 31, 2003, to implement the settled rate for Pacific Gas and Electric Company TO6.

The ISO states that this filing has been served upon the Public Utilities Commission of the State of California, the California Energy Commission, the California Electricity Oversight Board, the Participating Transmission Owners, and upon all parties with effective Scheduling Coordinator Service Agreements under the ISO Tariff. In addition, the ISO is posting the filing on the ISO home page.

Comment Date: 5 p.m. eastern time on October 6, 2004.

12. New York Independent System Operator, Inc.

[Docket No. ER04-1229-000]

Take notice that on September 15, 2004, the New York Independent System Operator, Inc. (NYISO) filed revisions to its Open-Access Transmission Tariff and Market Administration and Control Area Services to implement a new cost allocation methodology under Rate Schedule 1 of each tariff. NYISO requests an effective date of January 1, 2005.

NYISO states that it has electronically served a copy of this filing on the official representative of each of its customers, on each participant in its stakeholder committees, and on the New York State Public Service Commission, on the electric utility regulatory agencies of New Jersey and Pennsylvania.

Comment Date: 5 p.m. eastern time on October 6, 2004.

13. NorthWestern Energy

[Docket No. ER04-1231-000]

Take notice that on September 16, 2004, NorthWestern Corporation, doing business as NorthWestern Energy (NorthWestern) submitted a Generation Interconnection Agreement between NorthWestern Corporation and NorthWestern Energy, L.L.C.

Comment Date: 5 p.m. eastern time on October 7, 2004.

14. Pacific Gas and Electric Company

[Docket No. ER04-1233-000]

Take notice that on September 15, 2004, Pacific Gas and Electric Company (PG&E) submitted a conditional section 205 filing that included proposed amendments to the Scheduling Coordinator Services Tariff (SCS Tariff), FERC Electric Tariff First Revised Volume 9.

PG&E states that copies of this filing have been served upon the California Public Utilities Commission, all parties designated on the Official Service List compiled by the Federal Energy Regulatory Commission in Docket No. ER00-565-000 and the ISO.

Comment Date: 5 p.m. eastern time on October 6, 2004.

15. International Transmission Company

[Docket No. ER04-1234-000]

Take notice that, on September 16, 2004, as supplemented on September 20, 2004, the Midwest Independent Transmission System Operator, Inc. (Midwest ISO) and International Transmission Company (International Transmission Company) submitted a filing with the Commission requesting changes to Attachment O of Midwest ISO's Open Access Transmission Tariff (OATT), applicable to rates for transmission service in the International Transmission pricing zone. Midwest ISO and International Transmission Company state that the changes are filed to further comply with International Transmission Company, 107 FERC ¶ 61,089 (2004), which required International Transmission to make accounting changes and to reflect certain of the changes in the OATT. Midwest ISO and International Transmission also state that its filing will also make the Attachment O tariff sheets consistent with Exhibits A and B that the Commission approved by order issued on July 2, 2003, in Docket No. ER03-343-001, International Transmission Company, 104 FERC ¶ 61,033 (2003), and by Commission Letter Order issued on July 14, 2004, in Docket No. ER03-343-005. Furthermore, the Midwest ISO and International Transmission Company, filed ministerial changes to Attachment O of Midwest ISO's OATT.

Midwest ISO states that it has electronically served a copy of this filing, with attachments, upon all Midwest ISO Members, Member representatives of Transmission Owners and Non-Transmission Owners, the Midwest ISO Advisory Committee participants, as well as all state commissions within the region. In addition, the filing has been electronically posted on the Midwest ISO's Web site at http://www.midwestiso.org under the heading “Filings to FERC” for other interested parties in this matter. The Midwest ISO will provide hard copies to any interested parties upon request.

Comment Date: 5 p.m. eastern time on October 7, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2496 Filed 10-5-04; 8:45 am]

BILLING CODE 6717-01-P